DEPARTMENT OF TRANSPORTATION

Federal Transit Administration

Federal Highway Administration

[Docket Number FHWA-2005-22986]

Notice of Public Meetings on Notice of Proposed Rulemaking (NPRM) for Statewide and Metropolitan Planning Requirements

AGENCIES: Federal Transit Administration (FTA), Federal Highway Administration (FHWA), DOT.

ACTION: Notice.

SUMMARY: This notice announces the dates, times, and locations of six public meetings and a national Webcast to be held in July and August 2006 concerning a Notice of Proposed Rulemaking (NPRM) on Statewide and Metropolitan Planning Requirements. Presentations delivered at these meetings will describe the provisions of the NPRM jointly issued by the Federal Transit Administration (FTA) and Federal Highway Administration (FHWA) on June 9, 2006 to provide guidance on implementing the planning provisions of Safe, Accountable, Flexible, Efficient Transportation Equity Act: A Legacy for Users (SAFETEA-LU), the Federal surface transportation law.

DATES: See SUPPLEMENTARY INFORMATION section for meeting dates.

ADDRESSES: See SUPPLEMENTARY INFORMATION section for meeting locations.

FOR FURTHER INFORMATION CONTACT: For FTA, Effie S. Stallsmith, Office of Planning and Environment, at Effie.Stallsmith@dot.gov or 202-366-5653, or Christopher Van Wyk, Office of Chief Counsel, 202-366-1733. For FHWA, Robert Ritter, Office of Planning, 202-493-2139. Both agencies are located at 400 Seventh Street, SW., Washington, DC 20590. Office hours for FTA are from 9 a.m. to 5:30 p.m., Monday through Friday, except Federal holidays. Office hours for FHWA are from 7:45 a.m. to 4:15 p.m. e.t., Monday through Friday, except Federal holidays.

SUPPLEMENTARY INFORMATION: The meetings listed below will provide a forum for FTA and FHWA staffs to make oral presentations on the Notice of Proposed Rulemaking (NPRM) for Statewide and Metropolitan Planning. Additionally, the sessions are intended to encourage interested parties and stakeholders to submit their comments directly to the official docket by the close of the public comment period on September 7, 2006, per the instructions found in the NPRM at 71 FR 33510 (June 9, 2006).

I. Meetings

The following are the 2006 Statewide and Metropolitan Planning NPRM public outreach session meeting dates and addresses:

1. Wednesday, July 19, 2006, 1 p.m. to 4 p.m. eastern standard time, Atlanta, GA—Sam Nunn Atlanta Federal Center (auditorium), 61 Forsyth Street, SW., Atlanta, GA 30303.

2. Friday, July 21, 2006, 9 a.m. to 12 p.m. eastern standard time, New York, NY—Alexander Hamilton U.S. Custom House (auditorium), One Bowling Green, New York City, NY 10004.

3. Monday, July 24, 2006, 1 p.m. to 4 p.m. central standard time, Kansas City, MO—Radisson Hotel and Suites Kansas City-City Center, 1301 Wyandotte, Kansas City, MO 64105.

4. Tuesday, August 1, 2006, 9 a.m. to 12 p.m. Pacific standard time, San Francisco, CA—Metropolitan Transportation Commission Building (auditorium), MetroCenter, 101 Eighth Street, Oakland, CA 94607.

5. Monday, August 7, 2006, 1 p.m. to 4 p.m. central standard time, Chicago, IL—Harold Washington Library Center (Multipurpose Room-B), 400 South State Street, Chicago, Illinois 60605.

6. Wednesday, August 9, 2006, 1 p.m. to 4 p.m. eastern standard time, Cambridge, MA—John A. Volpe National Transportation Systems Center (auditorium), 55 Broadway, Cambridge, MA 02142.

II. Presentations and Comment Format

Generally, there will be at least two speakers delivering a presentation of approximately 1.5 hours. Meeting participants should arrive early since each meeting is anticipated to begin promptly at the appointed time.

A. Questions and Comments

Meeting attendees will have an opportunity to pose questions to the speakers and to the group as a whole. It is the responsibility of individuals who wish for their comments to become part of the official public record to submit their comments directly to the U.S. Docket via postal mail, fax, or through the online Docket Management System (DMS) by September 7, 2006. For instructions on how to submit comments to the docket (Docket Number FHWA-2005-22986), please refer to the NPRM located at 71 FR 33510 (June 9, 2006).

B. Registration

Registration is not required for public meetings. However, in order to ensure adequate space and materials, participants are encouraged to register for one or more events online at ­ http://www.environment.fta.dot.gov/nprm/register.asp.

III. Security, Building, and Parking Guidelines

Some meetings are held in Federal government buildings; therefore, Federal security measures are applicable. In planning your arrival time, we recommend allowing additional time to clear security. In order to gain access to the building and grounds, participants must display government-issued photo identification. Persons without proper identification may be denied access.

Proper identification is required to access to following four meetings:

1. Atlanta—Sam Nunn Atlanta Federal Center (auditorium), 61 Forsyth Street, SW., Atlanta, GA 30303.

2. New York—Alexander Hamilton U.S. Custom House (auditorium), One Bowling Green, New York City, NY 10004.

3. San Francisco—Metropolitan Transportation Commission Building (auditorium), MetroCenter, 101 Eighth Street, Oakland, CA 94607.

4. Cambridge—John A. Volpe National Transportation Systems Center (auditorium), 55 Broadway, Cambridge, MA 02142.

Security measures may also include inspection of vehicles, inside and out, at the entrance to the grounds. In addition, persons entering Federal buildings must pass through a metal detector. All items are subject to inspection.

IV. Special Accommodations

All locations are ADA-accessible and sign language interpreters will be present at each meeting. Individuals attending a meeting who are hearing or visually impaired and have special requirements, or a condition that requires special assistance or accommodations, may indicate this on the online registration form or by calling Paul Christner at 617-494-3142.

V. Online Event

In addition to the NPRM outreach sessions, FHWA and FTA will conduct a national Webcast on July 13, 2006 from 1 p.m. to 3 p.m. eastern standard time. The Webcast will include a presentation on the NPRM, and participants will have an opportunity to submit questions electronically. Interested parties may learn more and register for the event, which is hosted by the Center for Transportation and the Environment, at http://itre.ncsu.edu/cte/TechTransfer/Teleconferences/2006schedule.asp.

Authority: 49 U.S.C. 5303-5304; 49 CFR 1.51.

Issued on the 30th of June 2006.
Sandra K. Bushue,
Deputy Administrator, Federal Transit Administration.
J. Richard Capka,
Administrator, Federal Highway Administration.

[FR Doc. 06-6023 Filed 7-5-06; 8:45 am]

BILLING CODE 4910-57-P